SMITHSONIAN INSTITUTION

NATIONAL CAPITAL PLANNING COMMISSION

Revised Notice of Intent To Prepare an Environmental Impact Statement for Proposed Construction of the Smithsonian National Museum of African American History and Culture—Public Scoping Meeting on January 4, 2007

AGENCIES: Smithsonian Institution (SI), National Capital Planning Commission (NCPC).

ACTION: Notice.

SUMMARY: The SI and NCPC, as joint lead agencies with NCPC as the Responsible Federal Agency, are confirming the date of the public scoping meeting for the Environmental Impact Statement (EIS) for the proposed construction of the Smithsonian National Museum of African American History and Culture. Notice of the date of the public meeting was provided in the Washington Post on December 5, 2006. The Notice of Intent to Prepare an EIS initially published in the Federal Register/Volume 71, No. 223/Monday, November 20, 2006 did not include the meeting information. In addition, the comment period, Web site URL, and contact information have changed.

SUPPLEMENTARY INFORMATION: The EIS scoping meeting will be held on January 4, 2007 from 6 p.m. to 9 p.m. at the National Music Center at the City Museum building, located at 801 K Street, NW. (Mount Vernon Square), Washington, DC. Consultants representing the SI and NCPC will be available to answer questions and receive comments about the scope of the EIS. Announcements about the meeting are provided on the NCPC Web site at www.ncpc.gov, and in other media.

The public comment period is extended through February 4, 2007 to ensure sufficient time for submittal of comments following the meeting. Comments are invited at the meeting, in writing, by e-mail to info@louisberger-nmaahceis.com, or on the project Web site at http://www.louisberger-nmaahceis.com. Written comments should be sent to Jill Cavanaugh at the Louis Berger Group, Inc., 2445 M Street, NW., 4th Floor, Washington, DC 20037-1445.

FOR FURTHER INFORMATION CONTACT: Jane Passman, Senior Facilities Planner, Smithsonian Institution, Office of Facilities Engineering and Operations, P.O. Box 37012, 600 Maryland Ave., SW., suite 5001, MRC 511, Washington, DC 20013-7012; Phone 202-633-6549; Fax: 202-633-6233.

John E. Huerta,
General Counsel, Smithsonian Institution.
Dated: December 18, 2006.
Lois Schiffer,
General Counsel, National Capital Planning Commission.

[FR Doc. 06-9852 Filed 12-20-06; 12:45 pm]

BILLING CODE 8030-03-P